ENVIRONMENTAL PROTECTION AGENCY

[EPA-HQ-OGC-2020-0717; FRL-10020-20-OGC]

Proposed Settlement Agreement, Challenge to Clean Air Act; Extension of Comment Period

AGENCY: Environmental Protection Agency (EPA).

ACTION: Notice of proposed settlement agreement; extension of comment period.

SUMMARY: The Environmental Protection Agency (EPA) is extending the comment period for a proposed Settlement Agreement to resolve petitions for review filed by the State of Wyoming (“Wyoming”) and PacifiCorp with respect to PacifiCorp's Wyodak electric generating unit (EGU). Notice of the proposed Settlement Agreement was published in the Federal Register on January 4, 2021. The notice provided for a 30-day public comment period ending on February 3, 2021. EPA received a request from the public seeking a 30-day extension of the comment period. In response to this request, EPA is extending the comment period for an additional 30 days until March 5, 2021.

DATES: The comment period for the proposed Settlement Agreement published January 4, 2021 (86 FR 87) is extended. Written comments must be received on or before March 5, 2021.

ADDRESSES: Follow the detailed instructions provided under ADDRESSES in the Federal Register notice of January 4, 2021 (86 FR 87) (FRL-10019-15-OGC).

FOR FURTHER INFORMATION CONTACT: Stephanie L. Hogan, Air and Radiation Law Office (2344A), Office of General Counsel, U.S. Environmental Protection Agency, 1200 Pennsylvania Ave. NW, Washington, DC 20460; telephone: (202) 564-3244; email address: hogan.stephanie@epa.gov.

SUPPLEMENTARY INFORMATION: This document extends the public comment period established in the Federal Register document of January 4, 2021 (86 FR 87) (FRL-10019-15-OGC). In that document, EPA provided notice of a proposed Settlement Agreement to resolve petitions for review filed by Wyoming and PacifiCorp with respect to PacifiCorp's Wyodak EGU, and opened a 30-day public comment period on the proposed Settlement Agreement consistent with Clean Air Act section 113(g). EPA is hereby extending this comment period, which was set to end on February 3, 2021, to March 5, 2021. To submit comments, or access the docket, please follow the detailed instructions provided under ADDRESSES in the Federal Register document of January 4, 2021, 86 FR 87. If you have questions, consult the person listed under FOR FURTHER INFORMATION CONTACT in this document.

Gautam Srinivasan,
Associate General Counsel.

[FR Doc. 2021-02207 Filed 2-2-21; 8:45 am]

BILLING CODE 6560-50-P